DEPARTMENT OF DEFENSE

Office of the Secretary

Defense Advisory Committee on Military Personnel Testing

AGENCY: Under Secretary of Defense for Personnel and Readiness, DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Defense Advisory Committee on Military Personnel Testing will take place:

DATES: Wednesday, August 26, 2009 (8:30 a.m. to 4 p.m.) and Thursday, August 27, 2009 (8:30 a.m. to Noon).

ADDRESSES: The meeting will be held at The Mulberry Inn, 601 East Bay Street, Savannah, Georgia 31401.

FOR FURTHER INFORMATION CONTACT: Dr. Jane Arabian, Assistant Director, Accession Policy, Office of the Under Secretary of Defense (Personnel and Readiness), Room 2B271, The Pentagon, Washington, DC 20301-4000, telephone (703) 697-9271.

SUPPLEMENTARY INFORMATION: Purpose of the Meeting: The purpose of the meeting is to review planned changes and progress in developing computerized and paper-and-pencil enlistment tests.

Agenda: The agenda includes an overview of current enlistment test development timelines and planned research for the next three years.

Public's Accessibility to the Meeting: Pursuant to 5 U.S.C. 552b and 41 CFR 102-3.140 through 102-3.165, and the availability of space, this meeting is open to the public.

Committee's Designated Federal Officer or Point of Contact: Dr. Jane M. Arabian, Assistant Director, Accession Policy, Office of the Under Secretary of Defense (Personnel and Readiness), Room 2B271, The Pentagon, Washington, DC 20301-4000, telephone (703) 697-9271.

Oral Presentations: Persons desiring to make oral presentations or submit written statements for consideration at the Committee meeting must contact Dr. Jane M. Arabian at the address or telephone number above no later than August 15, 2009.

Morgan E. Frazier,
Alternate OSD Federal Register Liaison Officer, Department of Defense.

[FR Doc. E9-16322 Filed 7-9-09; 8:45 am]

BILLING CODE 5001-06-P